DEPARTMENT OF THE INTERIOR

National Park Service

[NPS-WASO-NAGPRA-14611; PPWOCRADN0-PCU00RP14.R50000]

Notice of Inventory Completion: American Museum of Natural History, New York, NY

AGENCY: National Park Service, Interior.

ACTION: Notice.

SUMMARY: The American Museum of Natural History has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the American Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the American Museum of Natural History at the address in this notice by February 18, 2014.

ADDRESSES: Nell Murphy, Director of Cultural Resources, American Museum of Natural History, Central Park West at 79th Street, New York, NY 10024-5192, telephone (212) 769-5837, email nmurphy@amnh.org.

SUPPLEMENTARY INFORMATION: Notice is here given in accordance with the Native American Graves Protection and Repatriation Act (NAGPRA), 25 U.S.C. 3003, of the completion of an inventory of human remains and associated funerary objects under the control of the American Museum of Natural History, New York, NY. The human remains and associated funerary objects were removed from the Sebonac site, Shinnecock Hills, Suffolk County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the American Museum of Natural History professional staff in consultation with representatives of Cayuga Nation; Delaware Tribe of Indians; Mashantucket Pequot Tribe (previously listed as the Mashantucket Pequot Tribe of Connecticut); Mohegan Indian Tribe of Connecticut; Narragansett Indian Tribe; Oneida Nation of New York; Oneida Tribe of Indians of Wisconsin; Onondaga Nation; Seneca Nation of Indians (previously listed as the Seneca Nation of New York); Seneca-Cayuga Tribe of Oklahoma; Shinnecock Indian Nation; Saint Regis Mohawk Tribe (previously listed as the St. Regis Band of Mohawk Indians of New York); Stockbridge-Munsee Community, Wisconsin; Tuscarora Nation; and the Wampanoag Tribe of Gay Head (Aquinnah).

History and Description of the Remains

In 1902, human remains representing, at minimum, 15 individuals, including 1 adult female, 1 adult of unknown sex, and 13 subadults of unknown sex, were removed from the Sebonac site, Shinnecock Hills, Suffolk County, NY, during Raymond M. Harrington's excavations, sponsored by Frederick Ward Putnam and the American Museum of Natural History. No known individuals were identified. The 76 associated funerary objects are 46 ceramic sherds, 6 pieces of chipped stone, 22 pieces of non-human bone, 1 ground stone vessel fragment, and 1 turtle shell cup.

These remains have not been directly dated. Thermoluminescence dating of a cord-marked sherd associated with a wigwam floor at Sebonac yielded a date of A.D. 1405±101, but it is not clear that this sherd was associated with the human remains included in this inventory. The site falls within the Late Woodland Sebonac phase, and we thus infer that the human remains are Late Woodland in age. The Sebonac culture persisted into protohistoric and possibly post-contact period. Sebonac was located in the contact period territory of the Shinnecock Indians and the archeology and oral tradition indicates considerable continuity for the Shinnecock in this area. During consultation, Shinnecock informants pointed to oral traditions that reflect continuity in Shinnecock house structures as recently as the mid-19th century as well as similarities in subsistence practices evidenced at the Sebonac site, such as cooking shellfish in subterranean baking pits, a practice that has endured among the present-day Shinnecock.

Determinations Made by the American Museum of Natural History

Officials of the American Museum of Natural History have determined that:

• Pursuant to 25 U.S.C. 3001(9), the human remains described in this notice represent the physical remains of 15 individuals of Native American ancestry.

• Pursuant to 25 U.S.C. 3001(3)(A), the 76 objects described in this notice are reasonably believed to have been placed with or near individual human remains at the time of death or later as part of the death rite or ceremony.

• Pursuant to 25 U.S.C. 3001(2), there is a relationship of shared group identity that can be reasonably traced between the Native American human remains and associated funerary objects and the Shinnecock Indian Nation.

Additional Requestors and Disposition

Lineal descendants or representatives of any Indian tribe or Native Hawaiian organization not identified in this notice that wish to request transfer of control of these human remains and associated funerary objects should submit a written request with information in support of the request to Nell Murphy, Director of Cultural Resources, American Museum of Natural History, Central Park West at 79th Street, New York, NY 10024-5192, telephone (212) 769-5837, email nmurphy@amnh.org., by February 18, 2014. After that date, if no additional requestors have come forward, transfer of control of the human remains and associated funerary objects to the Shinnecock Indian Nation may proceed.

The American Museum of Natural History is responsible for notifying the Cayuga Nation; Delaware Tribe of Indians; Mashantucket Pequot Tribe (previously listed as the Mashantucket Pequot Tribe of Connecticut); Mohegan Indian Tribe of Connecticut; Narragansett Indian Tribe; Oneida Nation of New York; Oneida Tribe of Indians of Wisconsin; Onondaga Nation; Seneca Nation of Indians (previously listed as the Seneca Nation of New York); Seneca-Cayuga Tribe of Oklahoma; Shinnecock Indian Nation; Saint Regis Mohawk Tribe (previously listed as the St. Regis Band of Mohawk Indians of New York); Stockbridge-Munsee Community, Wisconsin; Tuscarora Nation; and the Wampanoag Tribe of Gay Head (Aquinnah) that this notice has been published.

Dated: December 4, 2013.
Melanie O'Brien,
Acting Manager, National NAGPRA Program.

[FR Doc. 2014-00777 Filed 1-15-14; 8:45 am]

BILLING CODE 4312-50-P